Title 3—

The President

Executive Order 14333 of August 11, 2025

Declaring a Crime Emergency in the District of Columbia

By the authority vested in me as President by the Constitution and the laws of the United States of America, including section 740 of the District of Columbia Self-Government and Governmental Reorganization Act (Public Law 93-198), as amended (section 740 of the Home Rule Act), and section 301 of title 3, United States Code, it is hereby ordered:

Section 1. Crime is out of control in the District of Columbia. Washington, District of Columbia, is our Nation's capital and home to the central institutions of American governance. Yet rising violence in the capital now urgently endangers public servants, citizens, and tourists, disrupts safe and secure transportation and the proper functioning of the Federal Government, and forces the diversion of critical public resources toward emergency response and security measures. The city government's failure to maintain public order and safety has had a dire impact on the Federal Government's ability to operate efficiently to address the Nation's broader interests without fear of our workers being subjected to rampant violence.

The increase in violent crime in the heart of our Republic has consequences beyond the individual tragedies that have dominated media coverage. Such lawlessness also poses intolerable risks to the vital Federal functions that take place in the District of Columbia. Violence and crime hamper the recruitment and retention of essential Federal employees, undermine critical functions of Government and thus the well-being of the entire Nation, and erode confidence in the strength of the United States. These conditions are disgraceful anywhere, but particularly in the capital of our Nation and the seat of the Federal Government. Citizens, tourists, and Federal workers deserve peace and security, not fear and violence. The smooth functioning of executive departments and agencies, courts, diplomatic missions, and the Federal Government demands an effective law-enforcement mechanism capable of halting the precipitous rise in violent crime, not one that permits Government workers to be violently attacked by mobs or fatally shot close to the Federal buildings where they work.

The magnitude of the violent crime crisis places the District of Columbia among the most violent jurisdictions in the United States. In 2024, the District of Columbia averaged one of the highest robbery and murder rates of large cities nationwide. Indeed, the District of Columbia now has a higher violent crime, murder, and robbery rate than all 50 States, recording a homicide rate in 2024 of 27.54 per 100,000 residents. It also experienced the Nation's highest vehicle theft rate with 842.4 thefts per 100,000 residents—over three times the national average of 250.2 thefts per 100,000 residents. The District of Columbia is, by some measures, among the top 20 percent of the most dangerous cities in the world.

As President, I have a solemn duty to take care that our laws are faithfully executed, and a sacred responsibility to protect the safety and security of United States citizens who live in and visit our Nation's capital, including Federal workers who live or commute into the District of Columbia. These conditions cannot persist. We will make the District of Columbia one of the safest cities in the world, not the most dangerous.

Sec. 2. Services of the Metropolitan Police Department of the District of Columbia. I determine that special conditions of an emergency nature exist that require the use of the Metropolitan Police Department of the District of Columbia (Metropolitan Police force) for Federal purposes, including maintaining law and order in the Nation's seat of Government; protecting Federal buildings, national monuments, and other Federal property; and ensuring conditions necessary for the orderly functioning of the Federal Government. Effective immediately, the Mayor of the District of Columbia (Mayor) shall provide the services of the Metropolitan Police force for Federal purposes for the maximum period permitted under section 740 of the Home Rule Act.

Sec. 3. Operational Control of the Metropolitan Police Department of the District of Columbia. (a) The authority of the President conferred by section 740(a) of the Home Rule Act to direct the Mayor with respect to the current special conditions of an emergency nature is delegated to the Attorney General.

(b) In accordance with section 740(a) of the Home Rule Act, the Mayor shall provide such services of the Metropolitan Police force as the Attorney General may deem necessary and appropriate.

Sec. 4. Monitoring and Recommendations. (a) The Attorney General shall monitor and regularly consult with any senior official the Attorney General deems appropriate on the special conditions of an emergency nature that exist in the District of Columbia that require the use of the Metropolitan Police force for Federal purposes.

(b) The Attorney General shall regularly update me on the status of the special conditions of an emergency nature that exist in the District of Columbia that require the use of the Metropolitan Police force for Federal purposes.

(c) The Attorney General shall inform me of any circumstances that, in the Attorney General's opinion, might indicate the need for further action by the President or that the action in this order is no longer necessary.

Sec. 5. Severability. If any provision of this order, or the application of any provision to any individual or circumstance, is held to be invalid, the remainder of this order and the application of its other provisions to any other individuals or circumstances shall not be affected thereby.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Justice.

THE WHITE HOUSE,

August 11, 2025.

[FR Doc. 2025-15550

Filed 8-13-25; 11:15 am]

Billing code 4410-CW-P